DEPARTMENT OF JUSTICE

Notice of Lodging of Consent Decree Under the Clean Water Act

Notice is hereby given that on April 7, 2008, a proposed Consent Decree (“Consent Decree”) in the matter of United States v. ConocoPhillips Company, Civil Action No. 2-08CV-077-J, was lodged with the United States District Court for the Northern District of Texas.

In the complaint in this matter, the United States sought injunctive relief and penalties against ConocoPhillips Company (“ConocoPhillips”) for claims arising under the Clean Water Act, 33 U.S.C. 1251 et seq., in connection with discharges of pollutants from the petroleum refinery ConocoPhillips operates in Borger, Texas. Under the Consent Decree, ConocoPhillips will pay a civil penalty of $1,200,000.00, perform a Supplemental Environmental Project to reduce the amount of solids discharged into nearby waters during storm events, monitor surrounding waters for selenium levels, and maintain the controls it has already put into place to minimize selenium discharges and correct whole effluent toxicity violations. The Department of Justice will receive for a period of thirty (30) days from the date of this publication comments relating to the Consent Decree. Comments should be addressed to the Assistant Attorney General, Environment and Natural Resources Division, and either e-mailed to pubcomment-ees.enrd@usdoj.gov or mailed to P.O. Box 7611, U.S. Department of Justice, Washington, DC 20044-7611, and should refer to United States v. ConocoPhillips Co., D.J. Ref. No. 90-5-1-1-08325. The Consent Decree may be examined at the Office of the United States Attorney, 500 S. Taylor St., Suite 300, Amarillo, TX 79101, and at U.S. EPA Region VI, 1445 Ross Avenue, Dallas, TX 75202-2733. During the public comment period, the Consent Decree may also be examined on the following Department of Justice Web site: http://www.usdoj.gov/enrd/Consent_Decrees.html. A copy of the Consent Decree may also be obtained by mail from the Consent Decree Library, P.O. Box 7611, U.S. Department of Justice, Washington, DC 20044-7611, or by faxing or e-mailing a request to Tonia Fleetwood (tonia.fleetwood@usdoj.gov), fax number (202) 514-0097, phone confirmation number (202) 514-1547. In requesting a copy from the Consent Decree Library, please enclose a check in the amount of $16.50 (25 cents per page reproduction cost) payable to the U.S. Treasury, or, if by e-mail or fax, forward a check in that amount to the Consent Decree Library at the stated address.

Thomas A. Mariani, Jr.,
Assistant Section Chief, Environmental Enforcement Section, Environment and Natural Resources Division.

[FR Doc. E8-8905 Filed 4-23-08; 8:45 am]

BILLING CODE 4410-15-P